INTERNATIONAL TRADE COMMISSION

Investigation No. 337-TA-615

In the Matter of Certain Ground Fault Interrupters and Products Containing Same; Notice of Commission Decision Not To Review an Initial Determination Granting a Motion To Amend the Complaint and Notice of Investigation

AGENCY: U.S. International Trade Commission.

ACTION: Notice.

SUMMARY: Notice is hereby given that the U.S. International Trade Commission has determined not to review an initial determination (“ID”) (Order No. 7) issued by the presiding administrative law judge (“ALJ”) granting a motion to amend the complaint and notice of investigation in the above-captioned investigation.

FOR FURTHER INFORMATION CONTACT: Paul M. Bartkowski, Esq., Office of the General Counsel, U.S. International Trade Commission, 500 E Street, SW., Washington, DC 20436, telephone (202) 708-5432. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: This investigation was instituted on September 18, 2007, based on a complaint filed by Pass & Seymour, Inc. (“Pass & Seymour”) of Syracuse, New York. The complaint, as supplemented, alleged violations of section 337 of the Tariff Act of 1930 (19 U.S.C. **1337) in the importation into the United States, the sale for importation, and the sale within the United States after importation of certain ground fault interrupters and products containing the same by reason of infringement of certain claims of U.S. Patent Nos.: 5,594,398; RE38,293; 7,154,718; 7,164,564; 7,212,386; and 7,256,973. The complaint named 15 respondents.

On November 15, 2007, Pass & Seymour filed a motion to amend the complaint and the notice of investigation (1) to remove respondent Lunar Industrial & Electrical, Inc. from the investigation; (2) to add U.S. Patent 7,283,340 to the investigation; (3) to make changes relating to the names, addresses, and affiliations of certain respondents; and (4) to amend information relating to Harmonized Tariff Schedule item numbers. Respondent Wenzhou Trimone Science and Technology Electric Co. filed a response in opposition to the motion. The Commission investigative attorney did not oppose the motion.

On December 6, 2007, finding good cause to amend the complaint and notice of investigation, the ALJ granted the motion by ID. No petitions for review were filed. The Commission has determined not to review the subject ID.

The authority for the Commission's determination is contained in section 337 of the Tariff Act of 1930, as amended (19 U.S.C. 1337), and in sections 210.14 and 210.42 of the Commission's Rules of Practice and Procedure (19 CFR 210.14, 210.42).

By order of the Commission.
Issued: January 4, 2008.
Marilyn R. Abbott,
Secretary to the Commission.

[FR Doc. E8-411 Filed 1-11-08; 8:45 am]

BILLING CODE 7020-02-P